DEPARTMENT OF THE INTERIOR

National Park Service

[N6643; NPS-WASO-NAGPRA-NPS0041377; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and associated funerary objects and has determined that there is a cultural affiliation between the human remains and associated funerary objects and Indian Tribes or Native Hawaiian organizations in this notice.

DATES: Repatriation of the human remains and associated funerary objects in this notice may occur on or after January 15, 2026.

ADDRESSES: Send written requests for repatriation of the human remains and associated funerary objects in this notice to Jane Pickering, Peabody Museum of Archaeology and Ethnology, Harvard University, 11 Divinity Avenue, Cambridge, MA 02138, email jpickering@fas.harvard.edu.

SUPPLEMENTARY INFORMATION: This notice is published as part of the National Park Service's administrative responsibilities under NAGPRA. The determinations in this notice are the sole responsibility of the PMAE, and additional information on the determinations in this notice, including the results of consultation, can be found in the inventory or related records. The National Park Service is not responsible for the determinations in this notice.

Abstract of Information Available

Based on the information available, human remains representing, at least, two individuals have been reasonably identified. The four associated funerary objects are one lot of ceramic bowls, one lot of ceramic jars, one lot of ceramic sherds, and one lot of stone and iron fragments. The human remains and associated funerary objects were removed from the Las Acequias site in Maricopa County, AZ, by Frank Hamilton Cushing during the Hemenway Southwestern Archaeological Expedition in 1887 or 1888. The expedition's benefactor was Mrs. Mary Hemenway. Excavation of Maricopa County sites began in February 1887 and concluded in June 1888. The Hemenway Expedition collection came into the possession of the PMAE in May 1894, following the death of Mrs. Hemenway.

Based on the information available, human remains representing, at least, five individuals have been reasonably identified. No associated funerary objects are present. The human remains were removed from the La Ciudad de los Pueblitos site in Maricopa County, AZ. One individual was removed from the site during the Hemenway Southwestern Archaeological Expedition led by Frank Hamilton Cushing in 1887. The expedition's benefactor was Mrs. Mary Hemenway. Excavation of Maricopa County sites began in February 1887 and concluded in June 1888. The Hemenway Expedition collection came into the possession of the PMAE in May 1894, following the death of Mrs. Hemenway. Four of the individuals were gifted to PMAE in 1934 by the Gila Pueblo organization. Gila Pueblo obtained the individuals prior to 1934, most likely through the excavations of the site by Frank Midvale in the 1920s.

Based on the information available, human remains representing, at least, one individual have been reasonably identified. The three associated funerary objects are one lot of ancestral dog remains, one lot of ceramic bowls, and one lot of ceramic sherds. The human remains and associated funerary objects were removed from the Los Hornos site in Maricopa County, AZ.

Based on the information available, human remains representing, at least, two individuals have been reasonably identified. No associated funerary objects are present. The human remains were removed from the Phoenix area of Maricopa County, AZ by an unknown collector at an unknown date. The Robert S. Peabody Institute donated the two individuals to the PMAE in 1937.

Based on the information available, four associated funerary objects have been reasonably identified. The four associated funerary objects are one lot of ceramic jars, one lot of ceramic sherds, one stone implement, and one slate tablet fragment. The associated funerary objects were removed by Frank Hamilton Cushing between 1886 and 1889 during the Hemenway Southwestern Archaeological Expedition from the Pueblo de las Canopas site in Maricopa County, AZ. The expedition's benefactor was Mrs. Mary Hemenway. Excavation of Maricopa County sites began in February 1887 and concluded in June 1888. The Hemenway Expedition collection came into the possession of the PMAE in May 1894, following the death of Mrs. Hemenway.

Based on the information available, one associated funerary object has been reasonably identified. The one associated funerary object is one ceramic jar. The associated funerary object was removed by Frank Hamilton Cushing between 1886 and 1889 during the Hemenway Southwestern Archaeological Expedition from the Pueblo del Patricio site in Maricopa County, AZ. The expedition's benefactor was Mrs. Mary Hemenway. Excavation of Maricopa County sites began in February 1887 and concluded in June 1888. The Hemenway Expedition collection came into the possession of the PMAE in May 1894, following the death of Mrs. Hemenway.

Based on the information available, one associated funerary object has been reasonably identified. The one associated funerary object is one shell. The associated funerary object was removed by Frank Hamilton Cushing between 1886 and 1889 during the Hemenway Southwestern Archaeological Expedition from the Los Guanacos site in Maricopa County, AZ. The expedition's benefactor was Mrs. Mary Hemenway. Excavation of Maricopa County sites began in February 1887 and concluded in June 1888. The Hemenway Expedition collection came into the possession of the PMAE in May 1894, following the death of Mrs. Hemenway.

Based on the information available, one associated funerary object has been reasonably identified. The one associated funerary object is one lot of a partially reconstructed ceramic jar known to have contained human remains. The associated funerary object was removed by R. E. L. Robinson in 1892 from an excavation in the center of Phoenix in Maricopa County, AZ, and was donated to the PMAE by an unknown person in 1892.

Based on the information available, human remains representing at least 138 individuals have been reasonably identified. The 16 associated funerary objects are one ceramic abrader, one lot of ceramic bowls, one lot of ceramic jars, one lot of ceramic pitchers, one lot of ceramic scoops, one lot of ceramic sherds, one ceramic vessel, one chalcedony fragment, one lot of charcoal fragments, one hammerstone, one projectile point, one lot of shell fragments, one smoothing stone, one spindle whorl, one lot of unworked faunal remains, and one lot of worked faunal remains. The human remains and associated funerary objects were removed from the seventeen subsites across the Los Muertos site in Maricopa County, AZ by Frank Hamilton Cushing during the Hemenway Southwestern Archaeological Expedition between 1886 and 1880. The expedition's benefactor was Mrs. Mary Hemenway. Excavation of Maricopa County sites began in February 1887 and concluded in June 1888. The Hemenway Expedition collection came into the possession of the PMAE in May 1894, following the death of Mrs. Hemenway.

Cultural Affiliation

Based on the information available and the results of consultation, cultural affiliation is clearly identified by the information available about the human remains and associated funerary objects described in this notice.

Determinations

The PMAE has determined that:

• The human remains described in this notice represent the physical remains of 148 individuals of Native American ancestry.

• The 30 objects described in this notice are reasonably believed to have been placed intentionally with or near individual human remains at the time of death or later as part of the death rite or ceremony.

• There is a reasonable connection between the human remains and associated funerary objects described in this notice and the Ak-Chin Indian Community; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 15, 2026. If competing requests for repatriation are received, the PMAE must determine the most appropriate requestor prior to repatriation. Requests for joint repatriation of the human remains and associated funerary objects are considered a single request and not competing requests. The PMAE is responsible for sending a copy of this notice to the Indian Tribes and Native Hawaiian organizations identified in this notice.

Authority: Native American Graves Protection and Repatriation Act, 25 U.S.C. 3003, and the implementing regulations, 43 CFR 10.10.

Dated: November 20, 2025.
Melanie O'Brien,
Manager, National NAGPRA Program.

[FR Doc. 2025-22918 Filed 12-15-25; 8:45 am]

BILLING CODE 4312-52-P